DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Alaska Trawl Groundfish Fishery Rationalization Social Study—Catcher Processor Socio-Cultural Survey.

OMB Control Number: 0648-xxxx.

Form Number(s): None.

Type of Request: Regular (request for a new information collection).

Number of Respondents: 495.

Average Hours per Response: Catcher-Processor Company Management survey, 1 hour; Catcher-Processor Shipboard Management and Catcher-Processor Deck and Processing Crew surveys, 30 minutes each.

Burden Hours: 255.

Needs and Uses: This request is for a new information collection.

Historically, changes in fisheries management regulations have been shown to result in impacts to individuals within the fishery. An understanding of social impacts in fisheries—achieved through the collection of data on fishing communities, as well as on individuals who fish—is a requirement under several federal laws, including the National Environmental Policy Act (NEPA) and the Magnuson-Stevens Fishery Conservation and Management Act (MSA) (as amended 2007). The collection of this data not only helps to inform legal requirements for the existing management actions, but will inform future management actions requiring equivalent information.

Fisheries rationalization programs have an impact on those individuals participating in the affected fishery, as well as their communities and may also have indirect effects on other fishery participants. The North Pacific Fishery Management Council is considering the implementation of a new, yet to be defined, rationalization program for the Gulf of Alaska groundfish trawl fishery. A data collection was conducted in 2014 (OMB Control No. 0648-0685) to obtain relevant socio-cultural information about current participants in most sectors of this fishery.

The proposed data collection complements this 2014 effort by collecting comparable information from individuals participating in the catcher processor fleet that operates in the North Pacific. The data collected will be used to develop a baseline description of the catcher processor sector operating in the North Pacific that can be used to analyze impacts that future fisheries management changes, such as the new bycatch management changes being developed for the Gulf of Alaska trawl fishery, may have on catcher processor businesses, as well as individuals and communities that are dependent on this sector. The measurement of these changes, combined with those noted in the 2014 survey, will lead to a greater understanding of the social impacts new management measures may have on the individuals and communities.

Affected Public: Individuals or households; business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 22, 2015.
Sarah Brabson,
NOAA PRA Clearance Officer.

[FR Doc. 2015-12885 Filed 5-27-15; 8:45 am]

BILLING CODE 3510-22-P